DEPARTMENT OF ENERGY

Federal Energy Regulatory Commission

[Project No. 2880-015]

Cherokee Falls Hydroelectric Project, LLC; Notice of Application Accepted for Filing and Soliciting Motions To Intervene and Protests

Take notice that the following hydroelectric application has been filed with the Commission and is available for public inspection.

a. Type of Application: New Major License.

b. Project No.: 2880-015.

c. Date filed: July 31, 2019.

d. Applicant: Cherokee Falls Hydroelectric Project, LLC.

e. Name of Project: Cherokee Falls Hydroelectric Project (Cherokee Falls Project).

f. Location: The existing project is located on the Broad River, in Cherokee County, South Carolina. The project does not affect federal land.

g. Filed Pursuant to: Federal Power Act, 16 U.S.C. 791(a)-825(r).

h. Applicant: Contact Beth E. Harris, Southwest Regional Engineer, Enel Green Power North America, Inc., 11 Anderson Street, Piedmont, SC 29673; Telephone (864) 846-0042 ext. 100; Beth.Harris@Enel.com.

i. FERC Contact: Michael Spencer at (202) 502-6093, or at michael.spencer@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2880-015.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time.

l. Project Description: The Cherokee Falls Project consists of: (1) A 1,819-foot-long granite masonry dam with a 1,701-foot-long spillway and 4-foot-high flashboards; (2) a reservoir with a surface area of 83 acres and a storage capacity of 140 acre-feet; (3) a trash rack intake; (4) a 130-foot-long, 40-foot-wide powerhouse containing one generating unit with a capacity of 4,140 kilowatts and an annual generation of 9,354.9 megawatt-hours; (5) a 150-foot-long tailrace; (6) 93-foot-long generator leads to three 500-kilovolt transformers and (7) a 200-foot-long transmission line to a point of interconnection with the grid.

The project is operated in run-of-river mode with a continuous, year-round minimum flow of 65 cubic feet per second (cfs) in the bypassed reach. Project operation starts when inflows exceed 665 cfs, the sum of the minimum hydraulic capacity of the turbine (600 cfs) and the minimum flow. All flows greater than 3,165 cfs, which is the sum of the maximum hydraulic capacity of the turbine (3,100 cfs) and the minimum flow, are passed over the spillway.

m. A copy of the application is available for review at the Commission in the Public Reference Room or may be viewed on the Commission's website at http://www.ferc.gov using the eLibrary link. Enter the docket number excluding the last three digits in the docket number field to access the document. For assistance, contact FERC Online Support. A copy is also available for inspection and reproduction at the Cherokee County Public Library, 300 East Rutledge Avenue, Gaffney, South Carolina 29340.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title PROTEST, or MOTION TO INTERVENE; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Final amendments to the application must be filed with the Commission no later than 30 days from the issuance date of the notice of ready for environmental analysis.

Dated: October 18, 2019.
Kimberly D. Bose,
Secretary.

[FR Doc. 2019-23492 Filed 10-25-19; 8:45 am]

BILLING CODE 6717-01-P